FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011671-006.

Title: Italia/CP Ships Space Charter and Sailing Agreement.

Parties: Italia di Navigazione, S.p.A., Contship Containerlines, Lykes Lines Limited, LLC, TMM Lines Limited, LLC.

Synopsis: The proposed modification expands the geographic scope of the agreement to include ports in Mexico and Central America and on the north coast of South America. The modification also revises the space allocations among the parties. The parties request expedited review.

Agreement No.: 011807.

Title: SNL/HASCO Cross Space Charter and Sailing Agreement.

Parties: Sinotrans Container Lines Co., Ltd., Shanghai Hai Hua Shipping Co., Ltd.

Synopsis: The proposed agreement authorizes the parties to charter vessel space to and from each other in the trade between the People's Republic of China (including Hong Kong), Korea, and Japan, on the one hand, and the U.S. Pacific Coast, on the other hand.

Agreement No.: 201006-003.

Title: New Orleans-Ceres Gulf Lease Agreement.

Parties: Board of Commissioners of the Port of New Orleans, Ceres Gulf, Inc.

Synopsis: The amendment provides for a month to month occupancy with no specific termination date, although it is expected that Ceres Gulf will leave the premises before March 31, 2003.

Agreement No.: 201114-002.

Title: Oakland/Evergreen Terminal Use Agreement.

Parties: City of Oakland, Board of Port Commissioners, Evergreen Marine Corp. (Taiwan) Ltd., Lloyd Triestino di Navigazione S.p.A., Hatsu Marine Ltd.

Synopsis: The amendment adds Hatsu Marine Ltd. as a party to the agreement.

Agreement No.: 201136.

Title: Palm Beach/ITG Vegas Lease and Operating Agreement.

Parties: Port of Palm Beach District, ITG Vegas, Inc.

Synopsis: The agreement provides for the lease of office space and passenger vessel berthing rights. The agreement runs through December 31, 2007.

By Order of the Federal Maritime Commission.
Dated: May 31, 2002.
Bryant L. VanBrakle,
Secretary.

[FR Doc. 02-14083 Filed 6-4-02; 8:45 am]

BILLING CODE 6730-01-P